DEPARTMENT OF TRANSPORTATION

Federal Aviation Administration

Standardization of the Requirements of Airworthiness Directives that Mandate Supplemental Structural Inspection Documents

AGENCY: Federal Aviation Administration (FAA), DOT.

ACTION: Notice of public meeting.

SUMMARY: This notice announces a public meeting which is being held by the Federal Aviation Administration (FAA) to present its views and hear comments from the public concerning issues regarding standardization of the requirements of airworthiness directives for certain transport category airplanes that mandate Supplemental Structural Inspection Documents (SSID) and that address the treatment of repairs, alterations, and modifications of those certain transport category airplanes.

DATES: The meeting will be held in Seattle, Washington, on February 27, 2003, beginning at 8:30 a.m.

REGISTRATION: Registration will begin at approximately 7:30 a.m. on Thursday, February 27, 2003. Persons planning to attend the meeting are encouraged to pre-register by contacting the person identified later in this notice as the contact for further information.

ADDRESSES: The meeting will be held at the Seattle Marriott Sea-Tac, 3201 South 176th Street, Seattle, WA 98188; telephone (206) 241-2000. A block of guest rooms has been reserved for the meeting at the Seattle Marriott at a group rate. This block of rooms will be held until February 6, 2003. Persons planning on attending the meeting should contact the hotel directly for reservations and identify themselves as participants in the FAA Public Technical Conference to ensure proper credit.

FOR FURTHER INFORMATION CONTACT: Brent Bandley, Aerospace Engineer, FAA, Airframe Branch, ANM-120L, Transport Airplane Directorate, Aircraft Certification Service, 3960 Paramount Boulevard, Lakewood, CA 90712-4137; telephone (562) 627-5237; facsimile (562) 627-5210.

SUPPLEMENTARY INFORMATION: In October 1991, Congress enacted Title IV of Public Law 102-143, the Aging Aircraft Safety Act (AASA) of 1991, to address aging aircraft concerns. That Act instructed the FAA administrator to prescribe regulations that will ensure the continuing airworthiness of aging aircraft. As one of several responses to the AASA, the FAA issued the Aging Airplane Safety Rule (AASR) on December 6, 2002. The applicability of that rule addresses airplanes that are operated under part 121 of the Federal Aviation Regulations (14 CFR part 121), all U.S. registered multi-engine airplanes operated under part 129 of the Federal Aviation Regulations (14 CFR part 129), and all multi-engine airplanes used in scheduled operations under part 135 of the Federal Aviation Regulations (14 CFR part 135). The AASR requires the maintenance programs of those airplanes to include damage tolerance-based inspections and procedures that include all major structural repairs, alterations, and modifications (RAMs). These procedures must be established and incorporated within four years after December 8, 2003, the effective date of the AASR.

Independently of the AASR, the FAA issued AD 98-11-03 R1 (64 FR 989, January 7, 1999) for Boeing Model 727 series airplanes and AD-98-11-04 R1 (64 FR 987, January 7, 1999) for Boeing Model 737 series airplanes on December 30, 1998. Those ADs mandated later revisions of the Boeing Supplemental Structural Inspection Documents (SSID) and specifically address RAMs. Those ADs also require operators to develop damage tolerance inspection programs for all RAMs affecting principal structural elements, thereby fulfilling the intent of the AASR for those airplanes.

However, since the issuance of the SSID ADs for the Boeing Model 727 and 737 series airplanes, several problems have arisen. The FAA received many requests for alternative methods of compliance (AMOCs) to approve various inspection methods and intervals for RAMs. In the process of reviewing these requests, the FAA noted that operators were having difficulties in addressing RAMs in order to comply with those ADs. Additionally, operators were concerned that the McDonnell Douglas SSID ADs and the Boeing 727/737 SSID ADs were not standardized with regard to the treatment of RAMs. This became a concern because many of the airplane operators have a mixed fleet of Boeing and McDonnell Douglas airplanes and now had to essentially implement two different SSID programs with no apparent reason for the difference between the programs. Therefore, in April 2000 the Transport Airplane Directorate chartered a SSID Team to develop recommendations to standardize the SSID ADs regarding the treatment of RAMs. The report can be accessed at http://www.faa.gov/certification/aircraft/transport.htm.

Public Technical Meeting

The results from the SSID Team provided a good first step towards standardizing the FAA approach to RAMs. However, the FAA has determined that a public meeting should be held to discuss the SSID ADs and their relationship with the new AASR. The Transport Airplane Directorate is holding this public meeting to give operators the opportunity to present any concerns they may have with using the SSID ADs to address RAMs. The meeting will also give the FAA the opportunity to clarify terms in the standardized SSID ADs that may be confusing to operators. The following are some of the items that will be addressed at the upcoming public meeting:

• The relationship between the Aging Airplane Safety Rule and any future SSID ADs that address RAMs.

• The SSID Team conclusions and recommendations.

• The FAA's approach in issuing the SSID ADs for Boeing Model 727/737 series airplanes, and any of the difficulties that operators have had in addressing RAMs in accordance with the ADs. Such difficulties include the role of supplemental type certificate (STC) holders in assisting operators in developing programs for STC modifications; the effect of inspection program requirements on the routine use of structural repair manuals; and the relationship/overlap between the Repair Assessment Program and SSID ADs.

• Opinions from the public/industry on addressing RAMs in future SSID ADs.

• Opinions from the public/industry regarding alternative approaches (other than ADs) for defining specific methods of compliance to address RAMs as required by the AASR for various models of transport category airplanes.

Participation at the Public Meeting

If you wish to present any oral statements at the public meeting, you should submit your request to the FAA prior to February 14, 2003. Such requests should be submitted to the person listed under the heading FOR FURTHER INFORMATION CONTACT and should include a written summary of oral remarks to be presented, as well as an estimate of time needed for the presentation. Requests received after February 14, 2003, will be considered and may be scheduled, time permitting, during the meeting. The FAA will prepare an agenda of speakers who will be available at the meeting. Every effort will be made to accommodate as many speakers as possible in the time allotted.

Meeting Procedures

The following procedures are established to facilitate the meeting:

• Attendance is open to the public, but will be limited to the space available.

• There will be no admission fee or other charge to attend or participate in the meeting. The opportunity to speak will be available to all persons, subject to availability of time.

• The meeting is designed to provide information to, and hear comments from, the public concerning issues related to the Aging Airplane Safety Rule and any future SSID ADs that address RAMs. The meeting will be conducted in an informal and nonadversarial manner; however, the FAA may ask questions to clarify a statement and to ensure a complete and accurate record.

• Representatives of the FAA will preside over the meeting. A panel of FAA personnel involved in this issue will be present.

• Statements made by members of the meeting panel are intended to facilitate discussion of the issues or to clarify issues and, unless stated as such, should not necessarily be construed as a position of the FAA.

• An individual, whether speaking in person or in a representative capacity on behalf of an organization, may be limited to a 10-minute statement. If possible, additional time may be allotted.

• The FAA will try to accommodate all questions, time permitting. However, the FAA reserves the right to exclude some questions, if necessary, to present a balance of viewpoints and issues.

• The FAA will review and consider all material presented by participants at the meeting. Participants are requested to provide 10 copies of all presentation materials for distribution to the panel members. Other copies may be provided to the audience at the discretion of the participant.

• The meeting will be recorded by a court reporter. A transcript of the meeting and any material accepted by the panel during the meeting will be made a part of the official record. Any person interested in purchasing a copy of the transcript should contact the court reporter directly at the meeting.

Issued in Renton, WA, on January 8, 2003.
Vi L. Lipski,
Manager, Transport Airplane Directorate, Aircraft Certification Service.

[FR Doc. 03-876 Filed 1-14-03; 8:45 am]

BILLING CODE 4910-13-P